DEPARTMENT OF COMMERCE

National Oceanic and Atmospheric Administration

RIN 0648-XF552

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific & Statistical Committee to consider actions affecting New England fisheries in the exclusive economic zone (EEZ). Recommendations from this group will be brought to the full Council for formal consideration and action, if appropriate.

DATES: This meeting will be held on Tuesday, August 8, 2017 beginning at 9:30 a.m.

ADDRESSES:

Meeting address: The meeting will be held at the Hotel Providence, 139 Mathewson Street, Providence, RI 02903; phone: (401) 861-8000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will review recent stock assessment information from the U.S./Canada Transboundary Resource Assessment Committee and information provided by the Council's Groundfish Plan Development Team (PDT) and recommend the overfishing level (OFL) and acceptable biological catch (ABC) for Georges Bank yellowtail flounder for the 2018 fishing year. They will receive an update and/or recommendations from the SSC's working group on defining “substantial change” in status or overfishing of stocks when developing OFL and ABC recommendations. They will also receive an update on a planned review of operational assessments for other groundfish stocks. Also on the agenda will be to review information provided by the Council's Skate PDT and recommend the OFL and ABC for the northeast skate complex for fishing years 2018-2019. Other business will be discussed as needed.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: July 31, 2017.
Tracey L. Thompson,
Acting Deputy Director, Office of Sustainable Fisheries, National Marine Fisheries Service.

[FR Doc. 2017-16363 Filed 8-2-17; 8:45 am]

BILLING CODE 3510-22-P